PENSION BENEFIT GUARANTY CORPORATION

29 CFR Part 4044

RIN 1212-AA82

PBGC Benefit Payments; Correction

AGENCY: Pension Benefit Guaranty Corporation.

ACTION: Final rule; correction.

SUMMARY: The Pension Benefit Guaranty Corporation's final rule on PBGC Benefit Payments, published on April 8, 2002 (at 67 FR 16950), contains an inadvertent error relating to the PBGC's regulation on Allocation of Assets in Single-Employer Plans. This document corrects that error.

EFFECTIVE DATE: June 1, 2002.

FOR FURTHER INFORMATION CONTACT: Harold J. Ashner, Assistant General Counsel, or Catherine B. Klion, Attorney, Office of the General Counsel, PBGC, 1200 K Street, NW., Washington, DC 20005-4026; 202-326-4024. (TTY/TDD users may call the Federal relay service toll-free at 1-800-877-8339 and ask to be connected to 202-326-4024.)

SUPPLEMENTARY INFORMATION: On April 8, 2002 (at 67 FR 16950), the PBGC published a final rule on PBGC Benefit Payments. That final rule inadvertently (1) drops existing regulatory text from § 4044.13(b) of the PBGC's regulation on Allocation of Assets in Single-Employer Plans; and (2) omits two conforming amendments in the text that was dropped from that regulation. The conforming amendments that were omitted were included in the PBGC's proposed rule on PBGC Benefit Payments published December 26, 2000 (at 65 FR 81456). This document corrects that error.

In rule document 02-8340, make the following corrections:

PART 4044—[CORRECTED]

§ 4044.13 [Corrected].

1. On page 16959, in the second column, correct amendatory instruction 17 to read as follows:

17. Amend § 4044.13 as follows:

a. Revise paragraphs (a), (b) introductory text, and (b)(1);

b. In paragraph (b)(2)(i), revise the second sentence; and

c. In paragraph (b)(5), remove “before the beginning” and add “on or before the first day” in their place.

The revisions read as follows:

2. On page 16959, in the third column, following paragraph (b)(1)(iii), add the following text:

§ 4044.13 Priority category 3 benefits.

* * * * *

(b) * * *

(2) * * *

(i) * * * Benefit increases that were effective throughout the 5-year period ending on the termination date, including automatic benefit increases during that period to the extent provided in paragraph (b)(5) of this section, shall be included in determining the priority category 3 benefit. * * *

* * * * *

Issued in Washington, DC, this 24th day of May, 2002.
Steven A. Kandarian,
Executive Director, Pension Benefit Guaranty Corporation.

[FR Doc. 02-13656 Filed 5-30-02; 8:45 am]

BILLING CODE 7708-01-P